DEPARTMENT OF HEALTH AND HUMAN SERVICES

Agency for Healthcare Research and Quality

Request for Nominations for AHRQ Study Section Members

AGENCY: Agency for Healthcare Research and Quality (AHRQ), HHS.

ACTION: Request for nominations for public members.

SUMMARY: In accordance with Title IX of the Public Health Service Act, see 42 U.S.C. 299c-1, and AHRQ's grant and contract regulations, 42 CFR part 67, applications submitted to AHRQ will be evaluated using the AHRQ peer review process to ensure a fair, equitable, and unbiased evaluation of their scientific and technical merit. The initial peer review of grant applications involves an assessment conducted by panels of experts established to include pertinent scientific disciplines and medical specialty areas. The confidential part of the peer review meetings devoted to critical evaluations will be closed meetings in accordance with section 10(d) of the Federal Advisory Committee Act, as amended (5 U.S.C. Appendix 2).

AHRQ is seeking nominations to fill approximately 20 to 30 percent of its study section membership, across the following study sections:

(1) Health System Research (HSR),

(2) Health Care Technology and Decision Sciences (HCTDS),

(3) Health Care Quality and Effectiveness Research (HCQER), and

(4) Health Care Research Training (HCRT).

The primary research foci and functions of these four study sections are described on the AHRQ Web site: (http:Ilwww.AHRQ .qovlfundlpeerrevlpeerdesc. htm).

Individuals from the health services research and health care community who could serve as peer reviewers on these study sections are sought to replace study section members whose terms have expired. In sending your nomination, please specify the nominee's professional/scientific/technical expertise, affiliations and full contact information, if this information is available.

Factors that will be considered in the selection of individuals to serve on study sections include: competence in a scientific, technical or clinical discipline or research specialty, particularly in health services research; fairness and evenhandedness in judgment and review; ability to work effectively in a group context; and commitment to complete work assignments.

A diversity of perspectives is valuable to AHRQ's work. To help obtain a diversity of perspectives among nominees, AHRQ encourages nominations of women and members of minority populations. AHRQ also seeks broad geographic representation.

DATES: AHRQ would like to receive your recommendations no later than Friday, October 1,2010.

ADDRESSES: Please direct your correspondence to: Kishena C. Wadhwani, PhD., M.P.H., Director, Division of Scientific Review (DSR), Office of Extramural Research, Education and Priority Populations (OEREP), Agency for Healthcare Research and Quality (AHRQ), Department of Health and Human Services (DHHS), 540 Gaither Road, Room 2032, Rockville, MD 20850, Phone: (301) 427-1556, Fax: (301) 427-1562, e-mail: Kishena.WadhwanjAHRQ hhs.gov.

FOR FURTHER INFORMATION CONTACT: Kishena C. Wadhwani, PhD., M.P.H. (See ADDRESSES section.)

SUPPLEMENTARY INFORMATION:

Background

Currently, AHRQ has one chartered Health Services Research Initial Review Group (IRG) responsible for the peer review of research and training grant applications submiffed for funding consideration. The IRG is to advise the Director of the Agency on matters related to scientific and technical merit of research grant proposals to improve the quality, safety, efficiency, and effectiveness of health care for all Americans.

This IRG is currently comprised of four subcommittees or study sections, each with a particular research focus around which peer reviewers' expertise is assembled. These study sections convene three times per year to review the grant applications submitted to the three different submission cycles. Study section members are appointed for up to a maximum of four years.

Dated: September 1, 2010.
Carolyn M. Clancy,
Director, AHRQ.

[FR Doc. 2010-22544 Filed 9-9-10; 8:45 am]

BILLING CODE 416Q-90-M